DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing the names of one or more persons that have been placed on OFAC's Specially Designated Nationals and Blocked Persons List (the SDN List) based on OFAC's determination that one or more applicable legal criteria were satisfied. All property and interests in property subject to U.S. jurisdiction of these persons are blocked, and U.S. persons are generally prohibited from engaging in transactions with them.

DATES: See Supplementary Information section.

FOR FURTHER INFORMATION CONTACT: OFAC: Associate Director for Global Targeting, tel.: 202-622-2420; Assistant Director for Sanctions Compliance & Evaluation, tel.: 202-622-2490; Assistant Director for Licensing, tel.: 202-622-2480; or Assistant Director for Regulatory Affairs, tel.: 202-622-4855.

SUPPLEMENTARY INFORMATION:

Electronic Availability

The Specially Designated Nationals and Blocked Persons List and additional information concerning OFAC sanctions programs are available on OFAC's website (https://www.treasury.gov/ofac).

Notice of OFAC Action(s)

On December 10, 2019, OFAC determined that the property and interests in property subject to U.S. jurisdiction of the following persons are blocked under the relevant sanctions authority listed below.

Individuals

1. AUNG, Aung, Burma; DOB 1973; Gender Male (individual) [GLOMAG].

Designated pursuant to section 1(a)(ii)(C)(1) of Executive Order 13818 of December 20, 2017, “Blocking the Property of Persons Involved in Serious Human Rights Abuse or Corruption,” 82 FR 60839, 3 CFR, 2017 Comp., p. 399, (E.O. 13818) for being a foreign person who is or has been a leader or official of an entity, including any government entity, that has engaged in, or whose members have engaged in, serious human rights abuse relating to the leader's or official's tenure.

2. OO, Than, Burma; DOB 12 Oct 1973; Gender Male (individual) [GLOMAG].

Designated pursuant to section 1(a)(ii)(C)(1) of E.O. 13818 for being a foreign person who is or has been a leader or official of an entity, including any government entity, that has engaged in, or whose members have engaged in, serious human rights abuse relating to the leader's or official's tenure.

3. HLAING, Min Aung, Burma; DOB 1956; Gender Male (individual) [GLOMAG].

Designated pursuant to section 1(a)(ii)(C)(1) of E.O. 13818 for being a foreign person who is or has been a leader or official of an entity, including any government entity, that has engaged in, or whose members have engaged in, serious human rights abuse relating to the leader's or official's tenure.

4. WIN, Soe, Burma; DOB 01 Mar 1960; Gender Male (individual) [GLOMAG].

Designated pursuant to section 1(a)(ii)(C)(1) of E.O. 13818 for being a foreign person who is or has been a leader or official of an entity, including any government entity, that has engaged in, or whose members have engaged in, serious human rights abuse relating to the leader's or official's tenure.

5. ANWAR, Rao (a.k.a. AHMED, Rao Anwar; a.k.a. KHAN, Anwar Ahmed; a.k.a. KHAN, Anwar Ahmed Rao; a.k.a. KHAN, Rao Anwar Ahmed), Pakistan; DOB 01 Jan 1959; POB Karachi, Pakistan; nationality Pakistan; Gender Male; Passport MU-4112252 (Pakistan) issued 27 May 2014 expires 26 May 2019 (individual) [GLOMAG].

Designated pursuant to section 1(a)(ii)(A) of E.O. 13818 for being a foreign person who is responsible for or complicit in, or has directly or indirectly engaged in, serious human rights abuse.

6. KOCNER, Marian, Slovakia; DOB 17 May 1963; POB Ruzomberok, Slovakia; nationality Slovakia; Gender Male; Passport 4305176196 (Slovakia) expires 31 Mar 2025 (individual) [GLOMAG].

Designated pursuant to section 1(a)(ii)(A) of E.O. 13818 for being a foreign person who is responsible for or complicit in, or has directly or indirectly engaged in, serious human rights abuse.

7. AL-WARFALLI, Mahmud (a.k.a. AL-WERFALLI, Mahmoud; a.k.a. AL-WERFALLI, Mahmoud Mustafa Busayf), Benghazi, Libya; DOB 1978; nationality Libya; Gender Male (individual) [GLOMAG].

Designated pursuant to section 1(a)(ii)(A) of E.O. 13818 for being a foreign person who is responsible for or complicit in, or has directly or indirectly engaged in, serious human rights abuse.

8. BALUKU, Musa (a.k.a. BALUKU, Seka; a.k.a. KAJUJU, Mzee), Congo, Democratic Republic of the; DOB 1976; alt. DOB 1975 to 1976; POB Kasese District, Rwenzururu Sub-Region, Western Uganda; nationality Uganda; Gender Male (individual) [GLOMAG].

Designated pursuant to section 1(a)(ii)(C)(1) of E.O. 13818 for being a foreign person who is or has been a leader or official of an entity, including any government entity, that has engaged in, or whose members have engaged in, serious human rights abuse relating to the leader's or official's tenure.

9. KASADHA, Amisi (a.k.a. KASAADA, Muzamil; a.k.a. KASADA, Kasadha; a.k.a. KIRBAKI, Muzamir; a.k.a. KIRIBAKI, Muzamir; a.k.a. “Kalume”; a.k.a. “Karume”), Congo, Democratic Republic of the; DOB 1975 to 1981; POB Iganga District, Busoga Region, Uganda; nationality Uganda; Gender Male (individual) [GLOMAG].

Designated pursuant to section 1(a)(iii)(A)(3) of E.O. 13818 for having materially assisted, sponsored, or provided financial, material, or technological support for, or goods or services to or in support of, an entity that has engaged in, or whose members have engaged in, serious human rights abuse.

10. KIBIRIGE, Amigo (a.k.a. AMIGO, Mzee; a.k.a. AMIGO, Simba; a.k.a. KIBIRGE, Amigo; a.k.a. MUHAMMAND, Kibirige), Congo, Democratic Republic of the; DOB 1975 to 1979; POB Masaka District, Central Region, Uganda; nationality Uganda; Gender Male (individual) [GLOMAG].

Designated pursuant to section 1(a)(iii)(A)(3) of E.O. 13818 for having materially assisted, sponsored, or provided financial, material, or technological support for, or goods or services to or in support of, an entity that has engaged in, or whose members have engaged in, serious human rights abuse.

11. LUMISA, Muhammed (a.k.a. LUMISA, Muhamad; a.k.a. “KATO, L.”; a.k.a. “LUMINSA”; a.k.a. “LUMWISA”; a.k.a. “Mukade”; a.k.a. “Mukake”), Congo, Democratic Republic of the; DOB 1959; alt. DOB 1959 to 1965; POB Kampala District, Central Region, Uganda; nationality Uganda; Gender Male (individual) [GLOMAG].

Designated pursuant to section 1(a)(iii)(A)(3) of E.O. 13818 for having materially assisted, sponsored, or provided financial, material, or technological support for, or goods or services to or in support of, an entity that has engaged in, or whose members have engaged in, serious human rights abuse.

12. MUHAMMAD, Kayiira (a.k.a. KAYIRA, Muhammad Mzee; a.k.a. MAHAMMAD, Kayiira; a.k.a. MUHAMADI, Kahira; a.k.a. “Kaida”; a.k.a. “Karida”; a.k.a. “Ogundipe”), Congo, Democratic Republic of the; DOB 1963 to 1969; POB Kampala District, Central Region, Uganda; nationality Uganda; Gender Male (individual) [GLOMAG].

Designated pursuant to section 1(a)(iii)(A)(3) of E.O. 13818 for having materially assisted, sponsored, or provided financial, material, or technological support for, or goods or services to or in support of, an entity that has engaged in, or whose members have engaged in, serious human rights abuse.

13. SEGUJJA, Elias (a.k.a. SUGUJA, Fezza; a.k.a. “Faiza”; a.k.a. “Feeza”; a.k.a. “Mulalo”), Congo, Democratic Republic of the; DOB 1969 to 1971; POB Kampala District, Central Region, Uganda; nationality Uganda; Gender Male (individual) [GLOMAG].

Designated pursuant to section 1(a)(iii)(A)(3) of E.O. 13818 for having materially assisted, sponsored, or provided financial, material, or technological support for, or goods or services to or in support of, an entity that has engaged in, or whose members have engaged in, serious human rights abuse.

14. GARANG, Angelo Kuot, Juba, South Sudan; DOB 12 Mar 1983; nationality South Sudan; Gender Male (individual) [GLOMAG].

Designated pursuant to section 1(a)(ii)(A) of E.O. 13818 for being a foreign person who is responsible for or complicit in, or has directly or indirectly engaged in, serious human rights abuse.

15. KUAJIEN, Michael (a.k.a. KUAJIAN, Michael; a.k.a. KUAJIEN DUER MAYOK, Michael), Nairobi, Kenya; DOB 01 Jan 1979; nationality South Sudan; Gender Male (individual) [GLOMAG].

Designated pursuant to section 1(a)(ii)(A) of E.O. 13818 for being a foreign person who is responsible for or complicit in, or has directly or indirectly engaged in, serious human rights abuse.

16. LAM, John Top (a.k.a. TUT, John Top Lam), Nairobi 248-00100, Kenya; DOB 12 Sep 1979; POB Ayod, South Sudan; nationality South Sudan; Gender Male; Passport R00339720 (South Sudan) issued 21 Mar 2016 expires 21 Mar 2021; National ID No. 000119903 (South Sudan) (individual) [GLOMAG].

Designated pursuant to section 1(a)(ii)(A) of E.O. 13818 for being a foreign person who is responsible for or complicit in, or has directly or indirectly engaged in, serious human rights abuse.

17. MUORWEL, Malual Dhal (a.k.a. MUORWEL MALUAL, Malual Dhal), Luri, South Sudan; DOB 01 Jan 1975; nationality South Sudan; Gender Male (individual) [GLOMAG].

Designated pursuant to section 1(a)(ii)(A) of E.O. 13818 for being a foreign person who is responsible for or complicit in, or has directly or indirectly engaged in, serious human rights abuse.

18. THIONGKOL, Abud Stephen (a.k.a. KOL, Abud Stephen Thiong), South Sudan; DOB 23 Feb 1962; Gender Male (individual) [GLOMAG].

Designated pursuant to section 1(a)(ii)(C)(1) of E.O. 13818 for being a foreign person who is or has been a leader or official of an entity, including any government entity, that has engaged in, or whose members have engaged in, serious human rights abuse relating to the leader's or official's tenure.

Entities

1. HOTEL HOLDING, S.R.O., Bratislava, Slovakia; Tax ID No. 2023153495 (Slovakia); Registration Number 45946892 (Slovakia) [GLOMAG] (Linked To: KOCNER, Marian).

Designated pursuant to section 1(a)(iii)(B) of E.O. 13818 for being owned or controlled by, or for having acted or purported to act for or on behalf of, directly or indirectly, KOCNER, Marian, a person whose property and interests in property are blocked pursuant to E.O. 13818.

2. INTERNATIONAL INVESTMENT DEVELOPMENT HOLDING A.S. (f.k.a. R.E.N.T.A.L A.S.), Bratislava, Slovakia; Tax ID No. 2022037809 (Slovakia); Registration Number 35875551 (Slovakia) [GLOMAG] (Linked To: KOCNER, Marian).

Designated pursuant to section 1(a)(iii)(B) of E.O. 13818 for being owned or controlled by, or for having acted or purported to act for or on behalf of, directly or indirectly, KOCNER, Marian, a person whose property and interests in property are blocked pursuant to E.O. 13818.

3. INTERNATIONAL INVESTMENT HOTELS HOLDINGS A.S. (a.k.a. RENTA A.S.), Bratislava, Slovakia; Tax ID No. 2021969268 (Slovakia); Registration Number 35873990 (Slovakia) [GLOMAG] (Linked To: KOCNER, Marian).

Designated pursuant to section 1(a)(iii)(B) of E.O. 13818 for being owned or controlled by, or for having acted or purported to act for or on behalf of, directly or indirectly, KOCNER, Marian, a person whose property and interests in property are blocked pursuant to E.O. 13818.

4. SPRAVA A INKASO POHLADAVOK, S.R.O. (f.k.a. SPRAVA SLUZIEB DONOVALY S.R.O.), Bratislava, Slovakia; Tax ID No. 2022942592 (Slovakia) [GLOMAG] (Linked To: KOCNER, Marian).

Designated pursuant to section 1(a)(iii)(B) of E.O. 13818 for being owned or controlled by, or for having acted or purported to act for or on behalf of, directly or indirectly, KOCNER, Marian, a person whose property and interests in property are blocked pursuant to E.O. 13818.

5. SPRAVA A INKASO ZMENIEK, S.R.O., Bratislava, Slovakia; Tax ID No. 2120543876 (Slovakia); Registration Number 50335839 (Slovakia) [GLOMAG] (Linked To: KOCNER, Marian).

Designated pursuant to section 1(a)(iii)(B) of E.O. 13818 for being owned or controlled by, or for having acted or purported to act for or on behalf of, directly or indirectly, KOCNER, Marian, a person whose property and interests in property are blocked pursuant to E.O. 13818.

6. TRANZ-TEL, A.S. (f.k.a. NORAM—AZD, A.S.), Krizna 47, Bratislava 1—Mestska Cast Ruzinov, Bratislava 81107, Slovakia; Tax ID No. 202141989 (Slovakia); Registration Number 35720514 (Slovakia) [GLOMAG] (Linked To: KOCNER, Marian).

Designated pursuant to section 1(a)(iii)(B) of E.O. 13818 for being owned or controlled by, or for having acted or purported to act for or on behalf of, directly or indirectly, KOCNER, Marian, a person whose property and interests in property are blocked pursuant to E.O. 13818.

Dated: December 10, 2019.
Andrea Gacki,
Director, Office of Foreign Assets Control.

[FR Doc. 2019-26957 Filed 12-13-19; 8:45 am]

BILLING CODE 4810-AL-P